FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than June 9, 2006.

A. Federal Reserve Bank of New York (Anne McEwen, Financial Specialist) 33 Liberty Street, New York, New York 10045-0001:

1. Mario and Dawn Martinez, both of Sundown, New York; to acquire voting shares of Catskill Hudson Bancorp, Inc., Rock Hill, New York, and thereby indirectly acquire voting shares of Community Bank of Sullivan County, Rock Hill, New York.

Board of Governors of the Federal Reserve System, May 22, 2006.
Jennifer J. Johnson,
Secretary of the Board.

[FR Doc. E6-8083 Filed 5-25-06; 8:45 am]

BILLING CODE 6210-01-S